ENVIRONMENTAL PROTECTION AGENCY

[OAR-2004-0061, FRL-7820-6]

Agency Information Collection Activities: Proposed Collection; Comment Request; Emission Certification and Compliance Requirements for Marine Spark-ignition Engines (Renewal), EPA ICR Number 1722.04, OMB Control Number 2060-0321

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on 9/30/2004. Under OMB regulations, the Agency may continue to conduct or sponsor the collection of information while this submission is pending at OMB. This ICR describes the nature of the information collection and its estimated burden and cost.

DATES: Additional comments may be submitted on or before October 28, 2004.

ADDRESSES: Submit your comments, referencing docket ID number OAR-2004-0061, to: (1) EPA online using EDOCKET (our preferred method), by e-mail to a-and-r-docket@epamail.epa.gov, or by mail to: EPA Docket Center, Environmental Protection Agency, Air and Radiation Docket and Information Center, Mail Code 6102T, 1200 Pennsylvania Ave., NW., Washington, DC 20460; and (2) OMB at: Office of Information and Regulatory Affairs, Office of Management and Budget (OMB), Attention: Desk Officer for EPA, 725 17th Street, NW., Washington, DC 20503.

FOR FURTHER INFORMATION CONTACT: Ms. Nydia Y. Reyes-Morales, Mail Code 6403J, Environmental Protection Agency, 1200 Pennsylvania Ave., NW., Washington, DC 20460; telephone number: (202) 343-9264; fax number: (202) 343-2804; e-mail address: reyes-morales.nydia@epa.gov.

SUPPLEMENTARY INFORMATION: EPA has submitted the following ICR to OMB for review and approval according to the procedures prescribed in 5 CFR 1320.12. On June 18, 2004 (69 FR 34158), EPA sought comments on this ICR pursuant to 5 CFR 1320.8(d). EPA received no comments.

EPA has established a public docket for this ICR under Docket ID number OAR-2004-0061, which is available for public viewing at the Air and Radiation Docket, in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Emission Certification and Compliance Requirements for Marine Spark-ignition Engines (Renewal).

Abstract: Under Title II of the Clean Air Act (42 U.S.C. 7521 et seq.; the Act), EPA is charged with issuing certificates of conformity for certain spark-ignition engines used to propel marine vessels that comply with applicable emission standards. Such a certificate must be issued before engines may be legally introduced into commerce. To apply for a certificate of conformity, marine spark-ignition engine manufacturers are required to submit descriptions of their planned production line, including detailed descriptions of the emission control system and engine emission test data. This information is organized by “engine family” groups expected to have similar emission characteristics. To comply with the corporate average emission standard, manufacturers must use the Averaging, Banking and Trading Program (AB&T) and must submit information regarding the calculation, actual generation and usage of emission credits in an initial report, end-of-the-year report, and final report. These reports are used for engine family certification; that is, to insure pre-production compliance with emissions requirements, and for enforcement purposes. Manufacturers must maintain records for eight years on the engine families included in the program. In this notice, former ICRs 1725.03 (“Marine Engine Manufacturers Assembly-Line Testing Reporting & Recordkeeping Requirements, “ OMB Control Number 2060-0323, expiring on 9/30/2004) and 1726.03 (“Marine Engine Manufacturer Based In-Use Emission Testing Program,” OMB Number 2060-0322, expiring on 10/31/2004) are being incorporated into ICR 1722.04 . This action is undertaken to consolidate information requirements for the same industry into one ICR, for simplification. With this consolidation, we combine the burden associated with the certification, AB&T, Production-line Testing (PLT) and In-use Testing programs for marine spark-ignition engines. Under the PLT Program, manufacturers are required to test a sample of engines as they leave the assembly line. This self-audit program allows manufacturers to monitor compliance with statistical certainty and minimize the cost of correcting errors through early detection. Under the In-use Testing Program, manufacturers are required to test engines after a number of hours of use to verify that they comply with emission standards throughout their useful lives. There are recordkeeping requirements in all programs.

The information requested by this information collection is used to enforce different provisions of the Act and maintain the integrity of the overall emissions reduction program. Data generated through the PLT, In-use Testing and AB&T programs may be used to evaluate future applications for certification, to identify potential issues, and as basis to suspend or revoke the certificate of conformity of those engines that fail. There are recordkeeping requirements in all programs.

The information is collected by the Engine Programs Group, Certification and Compliance Division, Office of Transportation and Air Quality, Office of Air and Radiation. Confidentiality of proprietary information submitted by manufacturers is granted in accordance with the Freedom of Information Act, EPA regulations at 40 CFR part 2, and class determinations issued by EPA's Office of General Counsel.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 4,029 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of marine spark-ignition engines.

Estimated Number of Respondents: 10.

Frequency of Response: Annually and quarterly.

Estimated Total Annual Hour Burden: 40,293.

Estimated Total Annual Cost: $2,240,875 includes $200,966 O&M costs, $0 annualized capital costs, and $2,039,909 labor costs.

Changes in the Estimates: There is an increase of 1,619 hours in the total estimated burden currently identified in the OMB Inventory of Approved ICR Burdens. This increase is due to the fact that we are consolidating three ICRs (1722.03, 1725.03, and 1726.03) into 1722.04, as explained above. The increase in burden is, therefore, due to an adjustment to the estimates.

Dated: September 21, 2004.
Oscar Morales,
Director, Collection Strategies Division.

[FR Doc. 04-21705 Filed 9-27-04; 8:45 am]

BILLING CODE 6560-50-P